DEPARTMENT OF AGRICULTURE

Submission for OMB Review; Comment Request

April 4, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: Conservation Reserve Program (CRP)—7 CFR Part 1410.

OMB Control Number: 0560-0125.

Summary of Collection: Section 1231 of the Conservation Title of the Food Security Act of 1985 (Pub. L. 990198 Stat. 1354, as amended, 16 U.S.C. 3831-3844), as amended by the Food, Agriculture, Conservation and Trade Act (Pub. L. 101-624, 104 Stat. 3577) and the Federal Agriculture Improvement and Reform Act of 1996, (Pub. L. 104-127, Stat. 994) directs the Secretary of Agriculture to formulate and carry out a Conservation Reserve Program (CRP) during the 1986-2002 calendar years. Under the program, the Secretary is authorized to enter into 10-15 year contracts to assist owners and operators of eligible land in conserving and improving the Nation's natural resources, including soil, water quality, air quality, and wildlife. The Farm Service Agency (FSA) will collect information using various CRP forms.

Need and Use of the Information: FSA will use the information collected on CRP forms to determine eligibility, quota and allotment reductions, incentive payments, maximum payment rates, and also record cropping history that is used by NRCS in determining land eligibility etc. The information is needed to implement and provide program benefits under the current legislation.

Description of Respondents: Farms; Individuals or households.

Number of Respondents: 160,497.

Frequency of Responses: Reporting: Other (When applying for benefits).

Total Burden Hours: 70,088.

Food Safety and Inspection Service

Title: Application for Inspection, Sanitation, and Exemption.

OMB Control Number: 0583-0082.

Summary of Collection: The Food Safety and Inspection Service (FSIS) has been delegated the authority to exercise the functions of the Secretary as provided in the Federal Meat Inspection Act (FMIA) (21 U.S.C. 601 et seq.), the Poultry Products Inspection Act (PPIA) (21 U.S.C. 451, et seq.), and the Egg Products Inspection Act (EPIA) (21 U.S.C. 1031). FSIS requires meat, poultry, and egg product establishments and FSIS accredited non-Federal analytical laboratories to maintain certain paperwork and records. FSIS will collect information using several FSIS forms.

Need and Use of the Information: FSIS will collect information to ensure that all meat and poultry establishments produce safe, wholesome, and unadulterated product, and that non-federal laboratories accord with FSIS regulations. In addition, FSIS also collects information to ensure that meat and poultry establishments exempted from FSIS's inspection do not commingle inspected and non-inspected meat and poultry products.

Description of Respondents: Business or other for-profit.

Number of Respondents: 9,885.

Frequency of Responses: Recordkeeping; Reporting: On occasion.

Total Burden Hours: 1,091.

Animal and Plant Health Inspection Service

Title: Pseudorabies in Swine; Payment of Indemnity.

OMB Control Number: 0579-NEW.

Summary of Collection: Title 21, U.S.C. authorizes sections 111, 114, 114a, 114-1, 115, 120, 125, 126, 134a, 134c, 134f, and 134g of 21 U.S.C. These authorities permit the Secretary to prevent, control and eliminate domestic diseases such as pseudorabies, as well as to take actions to prevent and to manage exotic diseases such as hog cholera, African swine fever, and other foreign animal diseases. More specifically, 21 U.S.C. 111, 115, 118, authorizes the Secretary of Agriculture to take such measures as he or she may deem proper to prevent the introduction or dissemination of any contagious or communicable disease of animals or live poultry from a foreign country into the United States or from one state to another. Disease prevention is the most effective method for maintaining a healthy animal population and enhancing our ability to compete in exporting animals and animal products. The Animal and Plant Health Inspection Service (APHIS) is conducting an Accelerated Pseudorabies Eradication program in an effort to eliminate pseudorabies from the United States. APHIS will collect information using a movement permit, an official seal to secure trucks that are carrying swine to slaughter, and a Report of Salvage Proceeds.

Need and Use of the Information: APHIS will collect information from herd owners on the number of animals being moved, their origin and destination sites, their disease status and identification, and the cleaning and disinfection requirements associated with the movement. If the information was not collected it would be impossible for APHIS to effectively ensure that pseudorabies-infected, exposed, or suspect swine are prevented from coming into contact with healthy animals.

Description of Respondents: Business or other for-profit; Farms; State, Local or Tribal Government.

Number of Respondents: 300.

Frequency of Responses: Reporting: On occasion.

Total Burden Hours: 998.

Agency has requested emergency approval by April 3, 2000.

Agricultural Marketing Service

Title: Cranberries Grown in the States of MA, RI, CT, NJ, WI, MN, OR, WA, and Long Island in the State of NY—Marketing Order No. 929.

OMB Control Number: 0581-0103.

Summary of Collection: Marketing Order No. 929 (7 CFR Part 929), regulates the handling of cranberries grown in the 10 mention states and emanates from enabling legislation (the Agricultural Marketing Agreement Act of 1937, Secs. 1-19, 48 Stat. 31, as amended; 7 U.S.C. 601-674). The act was designed to permit regulation of certain agricultural commodities for the purpose of providing orderly marketing conditions in interstate commerce and improving returns to growers. The objective of the marketing agreement and order is to correlate the supply of cranberries available for sale in the various trade channels with the demand in those outlets. The Agricultural Marketing Service will collect information using forms FV-53, -259, -260, and -263.

Need and Use of the Information: AMS will collect information from the form on cranberry production, shipments, inspection, and export. The Cranberry Marketing Committee, which represents growers and locally administers the order. The committee and its staff are responsible for keeping information in individual handlers inventories and receipt confidential. Information gathered by the committee would only be reported in the aggregate, along with other pertinent cranberry data. If information was not collected it would eliminate data needed to keep the cranberry industry and the Secretary abreast of changes at the State and local level.

Description of Respondents: Business or other for-profit; Farms.

Number of Respondents: 1,285.

Frequency of Responses: Recordkeeping; Reporting: Quarterly; Annually.

Total Burden Hours: 1,750.

William McAndrew,
Departmental Clearance Officer.

[FR Doc. 00-8678 Filed 4-6-00; 8:45 am]

BILLING CODE 3410-01-M